DEPARTMENT OF THE INTERIOR

Bureau of Land Management

[MT-912-0777-HN-003E]

Notice of Special Fire Restrictions—Restrictions and Conditions of Use in the Lewistown, Butte and Dillon Field Offices, MT

AGENCY: Bureau of Land Management, Interior.

ACTION: Notice.

SUMMARY: Bureau of Land Management Montana State Director Mat Millenbach has initiated Level 4 fire restrictions, effective 12:01 pm Mountain Daylight Time Tuesday, September 5, 2000, on BLM lands in the Montana counties listed below.

The Level 4 fire restrictions apply to BLM lands in: Carbon, Sweet Grass, Stillwater, Park, Gallatin, Madison, Beaverhead, Jefferson, Broadwater, Meagher, Lewis and Clark east of the continental divide, Cascade, Teton, Pondera, Toole and Glacier counties.

With Level 4 fire restrictions, the following activities are prohibited on BLM-managed lands.

Building, maintaining, attending, or using a campfire or any open fire is prohibited (43 CFR 9212.1(h)). Gas and liquid-fueled stoves and lanterns are still permitted at a signed developed, designated recreation site or campground.

Contained units, campers, trailers, etc. are not restricted to designated areas if cooking within the contained unit. This includes pickups with toppers, but not an open pickup bed. Boats on water are considered a contained unit.

Camping in contained units is confined to areas immediately adjacent to open roads.

Possessing or using motorized vehicles such as, but not limited to cars, trucks, trail bikes, motorcycles and all terrain vehicles off of cleared roads is prohibited except for persons with a grazing, oil and gas or mining permit performing activities in accordance with their permit. Cleared roads are defined as roads cleared of vegetation shoulder to shoulder (43 CFR 9212.1(h)).

Travel via foot or bicycle will be allowed on roads that have been closed due to the extreme fire danger.

Smoking, except within an enclosed vehicle or building; at an improved place of habitation; at a developed, designated recreation site or campground; or while stopped in an area at least 3 feet in diameter that is cleared of all flammable material, is prohibited (43 CFR 9212.1(h)).

Use of chainsaws or other equipment with internal combustion engines for felling, bucking, skidding/wood cutting, road-building, and other high fire risk operations is prohibited. Exceptions are helicopter yarding and earth moving on areas of cleared and bare soil. Sawing incidental to loading operations on cleared landings is not necessarily restricted (43 CFR 9212.1(h)).

Welding, blasting (except seismic operations confined by ten or more feet of soil, sand or cuttings), and other activities with a high potential for causing wildland fires are prohibited (43 CFR 9212.1(h)).

A patrol is required for a period of two hour following the cessation of all work activity. The patrolperson's responsibilities include checking for compliance with required fire precautions.

These restrictions are in addition to the following area closures: Departure Point Campground at Holter Lake T14 N, R 3 W, Sec 23, NE 1/4; Sleeping Giant Area including BLM lands along west shore of Holter Lake from Jackson Peak to the southern boundary across from Mann Gulch and east to I-15; Scratch Gravel Hills, near Helena.

Exemptions to the above prohibitions are allowed only for any Federal, State, or local officer, or member of an organized rescue, firefighting force or law enforcement in the performance of an official duty, or persons with a permit or written authorization allowing the otherwise prohibited act or omission.

Authority for these prohibitions is pursuant to the Federal Land Policy and Management Act of 1976 (43 U.S.C. 1701, et seq.), Sections 302(b) and 301(a); and Title 43 of the Code of Federal Regulations, Part 9210 (Fire Management), Subpart 9212 (Wildfire Prevention). These restrictions will become effective at 12:01 pm, Mountain Daylight Time, Tuesday, September 5, 2000, and will remain in effect until rescinded or revoked.

Violation of this prohibition is punishable by a fine of not more than $1,000 or imprisonment for not more than 12 months, or both.

DATES: Restrictions go into effect at 12:01 pm (noon) on Tuesday, September 5, 2000, and will remain in effect until further notice.

ADDRESSES: Comments should be sent to BLM Montana State Director, Attention: Pat Mullaney, P.O. Box 36800, Billings, Montana 59107-6800.

FOR FURTHER INFORMATION CONTACT: Pat Mullaney, Fire Management Specialist, 406-896-2915.

Dated: September 5, 2000.
Roberta A. Moltzen,
Acting State Director.

[FR Doc. 00-23196 Filed 9-6-00; 12:37 pm]

BILLING CODE 4310-$$-P